ENVIRONMENTAL PROTECTION AGENCY

[EPA-HQ-OPPT-2007-0332; FRL-8128-4]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from February 12, 2007 to March 23, 2007, consists of the PMNs and TMEs, both pending or expired, and the notices of commencement to manufacture a new chemical that the Agency has received under TSCA section 5 during this time period.

DATES: Comments identified by the specific PMN number or TME number, must be received on or before June 8, 2007.

ADDRESSES: Submit your comments, identified by docket identification (ID) no. EPA-HQ-OPPT-2007-0332, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO, EPA East Bldg., Rm. 6428, 1201 Constitution Ave., NW., Washington, DC. Attention: Docket ID number EPA-HQ-OPPT-2007-0332. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2007-0332. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the docket's index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC PublicReading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from February 12, 2007 to March 23, 2007, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 109 Premanufacture Notices Received From: 02/12/07 to 03/23/07
Case No. | Received Date | Projected Notice End Date | Manufacturer/Importer | Use | Chemical
P-07-0233 | 02/09/07 | 05/09/07 | CBI | (G) (open non dispersive) Adhesion promoter | (G) Polyurethane acrylate resin
P-07-0234 | 02/12/07 | 05/12/07 | CBI | (G) Inks, coatings adhesives and printing plates | (G) Acrylic esters
P-07-0235 | 02/12/07 | 05/12/07 | CBI | (G) Textile colorant | (G) Tri-(substituted azo benzenesulfonic acid)-m- phelylenediamine, sodium salts
P-07-0236 | 02/12/07 | 05/12/07 | Symrise Inc. | (S) Ingredient in fragrance products | (S) Cyclohexane, 2-methoxy-4-methyl-1-(1-methylethyl)-, (1s,2r,4r)-
P-07-0237 | 02/12/07 | 05/12/07 | DIC International (USA) LLC | (G) Acrylic resin for coatings | (G) Hydroxy alkyl methacrylate, polymer with branched benzene and alkyl fumarate
P-07-0238 | 02/12/07 | 05/12/07 | CBI | (G) Industrial wood applications | (G) Polyester acrylate
P-07-0239 | 02/12/07 | 05/12/07 | Genesee Polymers Corporation | (S) Wetting agent for coatings and additives. | (S) Siloxanes and silicones, di-me, 3-hydroxypropyl me, ethers with polyethylene glycol mono-me ether and polyethylene-polypropylene glycol mono-bu ether
P-07-0240 | 02/12/07 | 05/12/07 | CBI | (S) Packaging adhesive | (G) Aromatic polyether polyester polyurethane, isocyanate-terminated
P-07-0241 | 02/12/07 | 05/12/07 | The Dow Chemical Company | (G) Coating | (G) Acrylate siline adduct
P-07-0242 | 02/12/07 | 05/12/07 | The Dow Chemical Company | (G) Coating | (G) Acrylate siline adduct
P-07-0243 | 02/13/07 | 05/13/07 | CBI | (G) Industrial wood applications | (G) Polyester acrylate
P-07-0244 | 02/14/07 | 05/14/07 | CBI | (G) Byproduct feedstock | (G) Carboxylic acid ester
P-07-0245 | 02/14/07 | 05/14/07 | CBI | (G) 1. Colorant for fiber board; 2. Spray pattern indicator | (G) Polyalkoxylated aromatic colorant
P-07-0246 | 02/14/07 | 05/14/07 | CBI | (G) 1. Colorant for fiber board; 2. Spray pattern indicator | (G) Polyalkoxylated aromatic colorant
P-07-0247 | 02/12/07 | 05/12/07 | CBI | (S) Polyester grind resin for pigment dispersion | (G) Fatty acid modified polyester resin
P-07-0248 | 02/12/07 | 05/12/07 | CBI | (S) Polyester grind resin for pigment dispersion | (G) Fatty acid modified polyester resin
P-07-0249 | 02/12/07 | 05/12/07 | CBI | (S) Polyester grind resin for pigment dispersion | (G) Fatty acid modified polyester resin
P-07-0250 | 02/12/07 | 05/12/07 | CBI | (S) Polyester grind resin for pigment dispersion | (G) Fatty acid modified polyester resin
P-07-0251 | 02/12/07 | 05/12/07 | CBI | (S) Polyester grind resin for pigment dispersion | (G) Fatty acid modified polyester resin
P-07-0252 | 02/12/07 | 05/12/07 | CBI | (S) Polyester grind resin for pigment dispersion | (G) Fatty acid modified polyester resin
P-07-0253 | 02/13/07 | 05/13/07 | CIBA Specialty Chemicals Corporation | (S) Defoamer in waterborne inks and resin-free pigment concentrates for printing applications | (G) Polyether-modified siloxane
P-07-0254 | 02/14/07 | 05/14/07 | CBI | (G) Additive | (G) Octanosilane derivative
P-07-0255 | 02/15/07 | 05/15/07 | Ineos Melamines, a Division of Ineos Americas LLC | (S) Internal release agent for aqueous, heat curing aminoplast resins | (G) Phosphoric acid, alkylester, compound with morpholine
P-07-0256 | 02/16/07 | 05/16/07 | The Dow Chemical Company | (G) Prepolymer for isocyanate polyurethane | (G) Mono-me ether blocked methylenephenyl diisocyanate polyurethane polymer
P-07-0257 | 02/20/07 | 05/20/07 | CBI | (S) A protective coating for wood flooring; a fire retardant coating for textiles; a fire retardant coating for architectural applications | (G) Aqueous, aliphatic polyether polyurethane dispersion polymer
P-07-0258 | 02/20/07 | 05/20/07 | CBI | (G) Coating | (G) Acrylic acid polymer with vinylphosphonic acid and ethylene glycol acrylate
P-07-0259 | 02/21/07 | 05/21/07 | CBI | (G) Polyurethane surfactant | (G) Silicone polyether copolymer
P-07-0260 | 02/21/07 | 05/21/07 | CBI | (S) Solder mask for printed circuit board preparation | (G) 2-propenoic acid, 2-methyl, methyl ester, polymer with modified alkenyl ester and an aromatic alkenyl ester, 2-propenoate
P-07-0261 | 02/21/07 | 05/21/07 | CBI | (G) Open non dispersive (binder) | (G) Urethane acrylate resin
P-07-0262 | 02/12/07 | 05/12/07 | Symrise Inc. | (S) Ingredient in fragrance products | (S) Alkenes, C12-C14, hydroformylation products, distn. lights
P-07-0263 | 02/20/07 | 05/20/07 | CBI | (G) Pigment additive used in various plastics applications | (G) Bis[(substituted)phenyl]-dihydro-pyrrolo[substituted]pyrrole-dione
P-07-0264 | 02/21/07 | 05/21/07 | CBI | (G) Resin | (G) Isocyanic acid, polymethylenepolyphenylene ester, polymer with (chloromethyl)oxirane, 4,4′-(1-methylethylidene)bis[phenol] and .alpha.,.alpha.′-[(1-methylethylidene)di-4,1-phenylene]bis[.omega.-hydropoly(oxy-1,2-ethanediyl)], 2-ethylhexanoate, reaction products substituted ethanol and diethylenetriamine
P-07-0265 | 02/20/07 | 05/20/07 | CBI | (S) Reactive dye for textile | (G) Substituted naphthalene disulfonic acid, alkali salt
P-07-0266 | 02/22/07 | 05/22/07 | CBI | (G) Contained use in energy production. | (G) Amine phosphonate salt
P-07-0267 | 02/22/07 | 05/22/07 | Boulder Scientific Company | (S) Raw material | (S) 2-propanol, 2-methyl-, sodium salt
P-07-0268 | 02/23/07 | 05/23/07 | Eastman Kodak Company | (S) Dye used in imaging media/products; export | (G) Substituted benzoxazolium salt
P-07-0269 | 02/28/07 | 05/28/07 | Nagase America Corp., New York Headquarters | (G) Category of use: Flame resisting material used in cars degree of containment: open, non-dispersive use | (G) Phosphoramidic acid, carbomonocyclic-,diphenylester
P-07-0270 | 02/28/07 | 05/28/07 | Hi-tech Color, Inc. | (S) Thermal-transfer sheet (back coating agent) | (G) polyesterurethane
P-07-0271 | 02/28/07 | 05/28/07 | Hi-tech Color, Inc. | (S) Thermal-transfer sheet (back coating agent) | (S) Siloxanes and silicones, di-me, 3-(2-hydroxyethoxy)propyl group-terminated, diesters with 2-oxepanone homopolymer, polymers with 1,3-butanediol and 1,1′-methylenebis[isocyanatobenzene]
P-07-0272 | 02/28/07 | 05/28/07 | CBI | (G) Intermediate | (G) Alkyl salicylate, metal salt
P-07-0273 | 02/28/07 | 05/28/07 | CBI | (G) Intermediate | (G) Alkyl salicylate, metal salt
P-07-0274 | 02/28/07 | 05/28/07 | CBI | (G) Intermediate | (G) Alkyl salicylic acid
P-07-0275 | 02/28/07 | 05/28/07 | CBI | (G) Intermediate | (G) Alkyl salicylic acid
P-07-0276 | 02/28/07 | 05/28/07 | CBI | (G) Lubricant additive | (G) Alkyl salicylate, metal salt
P-07-0277 | 02/28/07 | 05/28/07 | CBI | (G) Lubricant additive | (G) Alkyl salicylate, metal salt
P-07-0278 | 03/01/07 | 05/29/07 | Huntsman International, LLC | (S) Dyeing of cotton fabric | (G) Substituted triphenyldioxazinesulfonic acid reaction product with substituted naphthalenesulfonic acid amino triazine compound
P-07-0279 | 03/02/07 | 05/30/07 | CBI | (S) Automotive coatings; fiberglass reinforced plastic; industrial adhesives; industrial coatings; automotive adhesives | (G) Acrylonitrile methacrylonitrile copolymer
P-07-0280 | 03/02/07 | 05/30/07 | Plextronics, Inc. | (S) Reactive intermediate monomer for use in manufacturing a p-type organic semiconductor polymer. The polymer will be used in printed organic electronics applications | (S) Thiophene, 3-hexyl-
P-07-0281 | 03/05/07 | 06/02/07 | Grain Processing Corporation | (G) highly dispersive use | (G) Corn by product
P-07-0282 | 03/02/07 | 05/30/07 | Plextronics, Inc. | (S) P-type organic semiconductive polymer for use in printed organic electronics applications | (S) Thiophene, 2,5-dibromo-3-hexyl-, homopolymer
P-07-0283 | 03/02/07 | 05/30/07 | Plextronics, Inc. | (S) Reactive intermediate monomer for use in manufacturing a p-type organic semiconductor polymer. The polymer will be used in printed organic electronics applications | (S) Thiophene, 2,5-dibromo-3-hexyl-
P-07-0284 | 03/05/07 | 06/02/07 | Shin-etsu Silicones of America, Inc. | (S) Additive for textile treating agent | (G) Alkyl silicone resin
P-07-0285 | 03/05/07 | 06/02/07 | CBI | (G) Ink drying aid | (G) Polyurethane derivative
P-07-0286 | 03/06/07 | 06/03/07 | CBI | (G) Chemical intermediate reactive additive for thermoset resins | (G) Phenol, 4,4′-(1-methylethylidene)bis[disubstituted-, polymer with disubstituted phenol
P-07-0287 | 03/06/07 | 06/03/07 | CBI | (G) Reactive additive for thermoset resins | (G) Phenol, 4,4′-(1-methylethylidene)bis[disubstituted-, polymer with disubstituted phenol, substituted propenoate
P-07-0288 | 03/07/07 | 06/04/07 | CBI | (G) Polyurethane foam stabilizer | (G) Glycol phosphite
P-07-0289 | 03/08/07 | 06/05/07 | CBI | (S) Laminating adhesive | (G) Isocyanate-terminated polyether polyester polyurethane
P-07-0290 | 03/08/07 | 06/05/07 | Green Millennium Inc. | (S) Self cleaning coating (interior and exterior coating) for building; self cleaning surface treatment for window glass | (S) Ammonium hydroxide reaction with hydrogen peroxide and titanium tetrachloride
P-07-0291 | 03/09/07 | 06/06/07 | BASF Corporation | (G) Catalyst | (G) Cobalt zinc complex derivative
P-07-0292 | 03/09/07 | 06/06/07 | BASF Corporation | (G) Catalyst | (G) Cobalt zinc complex derivative
P-07-0293 | 03/12/07 | 06/09/07 | Croda Inc. | (S) Solubilizer for semi-polar compounds into non-polar fluids.; glossing agent for inanimate surfaces (wood, metal, plastic, rubber, et al.); shine enhancer for pet shampoo | (G) Ppg-3 benzyl ether myristate
P-07-0294 | 03/12/07 | 06/09/07 | Septon Company of America | (S) Compounds; adhesives | (S) Benzene, (1-methylethenyl)-, polymer with 1,3-butadiene, hydrogenated
P-07-0295 | 03/12/07 | 06/09/07 | CBI | (G) Component of foam | (G) Fatty acid polymer with aliphatic diol and aromatic diacid
P-07-0296 | 03/12/07 | 06/09/07 | CBI | (G) Component of foam | (G) Fatty acid polymer with aliphatic diol and aromatic diacid
P-07-0297 | 03/12/07 | 06/09/07 | CBI | (G) Component of foam | (G) Fatty acid polymer with aliphatic diol and aromatic diacid
P-07-0298 | 03/12/07 | 06/09/07 | CBI | (G) Coating material | (G) Ethyl methacrylate based polymer
P-07-0299 | 03/12/07 | 06/09/07 | CBI | (G) Coating material | (G) Unsaturated polyurethane
P-07-0300 | 03/12/07 | 06/09/07 | CBI | (G) Oil recovery | (G) Acrylic polymer on the basis of isobutyl methacrylate
P-07-0301 | 03/13/07 | 06/10/07 | CBI | (S) Ingredient in fragrance compound | (G) Thioketone
P-07-0302 | 03/14/07 | 06/11/07 | CBI | (G) Open, non-dispersive use | (G) Polyester resin
P-07-0303 | 03/16/07 | 06/13/07 | CBI | (S) A component of ultraviolet light/ electron beam formulations | (G) 2-propenoic acid, 1,1′-[2,2-bis(hydroxymethyl)-1,3-propanediyl] ester, polymer with multifunctional isocyanate, pentaerythritol triacrylate-blocked
P-07-0304 | 03/16/07 | 06/13/07 | CBI | (S) Ultraviolet absorber for plastic articles | (G) 2-(substituted 1,3,5-triazin-2-yl)-5-substituted phenol
P-07-0305 | 03/16/07 | 06/13/07 | CBI | (G) Anti-static agent for thermoplastic resin | (G) Dicarboxylic acid, aminoalkanoic acid and polyether copolymer
P-07-0306 | 03/16/07 | 06/13/07 | Hi-Tech Color, Inc. | (S) Thermal-transfer sheet (back coating agent) | (S) Siloxanes and silicones, di-me, 3-(2-hydroxyethoxy)propyl group-terminated, polymers with 1,4-butanediol, 1,4-cyclohexanedimethanol, 1,3-dioxolan-2-one, 1,6-hexanediol and 1,1′-methylenebis[isocyanatobenzene]
P-07-0307 | 03/16/07 | 06/13/07 | CBI | (G) Open non dispersive (coatings) | (G) Polyurethane elastomer
P-07-0308 | 03/16/07 | 06/13/07 | CBI | (G) Solvent for monomer production | (G) Glycol ether
P-07-0309 | 03/16/07 | 06/13/07 | CBI | (G)colorant for textile | (G) b-a-alanine, n-(subsituted)-substituted oxoethyl phenylester
P-07-0310 | 03/19/07 | 06/16/07 | CIBA Specialty Chemicals Corporation | (S) Pigment for coatings | (G) Halogenated diketopyrrolopyrrol derivative
P-07-0311 | 03/20/07 | 06/17/07 | CBI | (G) Industrial coating | (G) Polyester acrylate
P-07-0312 | 03/20/07 | 06/17/07 | Sakai Trading New York Inc. | (S) Paint element as curing agent; adhesive element as curing agent; advanced composite material as curing agent; insulating material for electric and electronic parts, such as ic chips as curing agent | (G) Hexahydrophthalic anhydride, bisphenol-a, and hydrogenated bisphenol-a, polymer with chloromethyl oxirane
P-07-0313 | 03/20/07 | 06/17/07 | CBI | (G) Polyimide precursor | (G) Polyamic acid alkyl ester derivatives
P-07-0314 | 03/22/07 | 06/19/07 | Henkel Corporation | (S) A polymerizable component in adhesive and sealant formulations | (G) Trialkenyl substituted cyclic alkane
P-07-0316 | 03/21/07 | 06/18/07 | CBI | (G) Paper additive | (G) Alkylaminoalkyl amide
P-07-0317 | 03/21/07 | 06/18/07 | CBI | (G) Paper additive | (G) Alkylaminoalkyl diamide
P-07-0318 | 03/21/07 | 06/18/07 | CBI | (G) Thickener in lubricants | (G) Organic lithium compound
P-07-0320 | 03/23/07 | 06/20/07 | CBI | (G) Inhibitor for oil field applications | (G) Quaternary ammonium salt
P-07-0321 | 03/23/07 | 06/23/07 | CBI | (G) Inhibitor for oil field applications | (G) Quaternary ammonium salt
P-07-0322 | 03/23/07 | 06/23/07 | CBI | (G) Inhibitor for oil field applications | (G) Quaternary ammonium salt
P-07-0323 | 03/23/07 | 06/23/07 | CBI | (G) Inhibitor for oil field applications | (G) Quaternary ammonium salt
P-07-0324 | 03/23/07 | 06/23/07 | CBI | (G) Inhibitor for oil field applications | (G) Quaternary ammonium salt
P-07-0325 | 03/23/07 | 06/20/07 | Mitsubishi International Corporation | (G) Catalyst | (G) Dicycloalkyldialkoxysilane

In Table II of this unit, EPA provides the following information (to the extent that such information is not claimed as CBI) on the TME received:

II. 1 Test Marketing Exemption Notices Received From: 12/12/07 to 03/23/07
Case No. | Received Date | Projected Notice End Date | Manufacturer/Importer | Use | Chemical
T-07-0011 | 02/23/07 | 04/08/07 | Forbo Adhesives, LLC | (G) Hot melt polyurethane adhesive | (G) Isocyanate functional polyester polyether urethane polymer

In Table III of this unit, EPA provides the following information (to the extent that such information is not claimed as CBI) on the Notices of Commencement to manufacture received:

III. 45 Notices of Commencement From: 02/12/07 to 03/23/07
Case No. | Received Date | Commencement Notice End Date | Chemical
P-02-0590 | 02/26/07 | 02/19/07 | (G) Polyester isocyanate
P-02-0941 | 02/16/07 | 02/07/07 | (G) Fatty acids, C18-unsaturated, dimers, hydrogenated, polymers with ethylenediamine and polyoxyalkyleneamines
P-03-0326 | 03/15/07 | 03/08/07 | (S) 2-propenoic acid, 2-methyl-, butyl ester, polymer with butyl 2-propenoate, ethenylbenzene and 2,5-furandione
P-04-0386 | 03/09/07 | 02/13/07 | (G) Multifuctional acrylate oligomer resin
P-05-0583 | 03/21/07 | 02/12/07 | (G) Acrylic modified polyester
P-05-0639 | 03/14/07 | 02/19/07 | (S) 2-propenoic acid, 2-methyl-, polymer with butyl 2-methyl-2-propenoate, ethenylbenzene, methyl 2-methyl-2-propenoate, 2-methylpropyl 2-methyl-2-propenoate and 1,2-propanediol mono(2-methyl-2-propenoate), tert-bu benzenecarboperoxoate-initiated
P-06-0020 | 03/02/07 | 02/20/07 | (G) Oxazolidinone
P-06-0153 | 02/20/07 | 01/31/07 | (G) Iso-tridecanol
P-06-0154 | 02/26/07 | 02/20/07 | (G) Silicone-polyol
P-06-0155 | 03/05/07 | 02/14/07 | (G) Aromatic tetracarbonyl compound polymer with 5-isocyanato-1-(isocyanatomethyl)-1,3,3-trimethyl cyclohexane, 2-hydroxyethyl acrylate- and 2-oxepanone homopolymer 2-[(1-oxo-2-propenyl)oxy]ethyl ester-blocked
P-06-0168 | 02/23/07 | 02/19/07 | (G) Copolymer of alkylacrylate and modified methylacrylate
P-06-0170 | 03/05/07 | 02/26/07 | (G) Dicarboxylic acid ester, polymer with styrene, maleic anhydride and methyacrylate, compound with amine
P-06-0171 | 03/05/07 | 02/26/07 | (G) Styrene-maleic acid copolymer, amine salt
P-06-0221 | 02/12/07 | 02/05/07 | (G) Phenol-(methylethylidene)bis-, polymer with N-aminoethyl-N′-[(phenylmethyl)amino]ethyl]-ethanediamine, N-(aminoethyl)-N′-(phenylmethyl)-ethanediamine, N,N′-bis[(phenylmethyl)amino]ethyl]-ethanediamine, (chloromethyl)oxirane, .alpha.-hydro-.omega.-hydroxypoly(oxy-ethanediyl) and N-(phenylmethyl)-N′-[(phenylmethyl)amino] ethyl]-ethanediamine
P-06-0311 | 02/16/07 | 02/11/07 | (G) Alkanoic acid, polymer with alkoxylated polyol, reaction products with alkylamine
P-06-0319 | 02/12/07 | 01/11/07 | (G) Pyridyl ethyl thioacetate
P-06-0347 | 03/14/07 | 03/12/07 | (G) Polyether modified polyamide
P-06-0376 | 03/09/07 | 03/01/07 | (G) Acrylic resin
P-06-0395 | 02/26/07 | 01/31/07 | (G) Epoxy acrylate oligomer
P-06-0531 | 03/09/07 | 03/01/07 | (S) Fatty acids, coco, 2,2-dimethyl-1,3-propanediyl esters
P-06-0532 | 02/23/07 | 01/26/07 | (G) Substituted styrene acrylate copolymer
P-06-0537 | 02/16/07 | 02/02/07 | (G) Ester of fatty acid with bisphenol a ethoxylate
P-06-0551 | 02/26/07 | 02/08/07 | (G) Substituted trihalomethylpyridine sulfonyl chloride
P-06-0553 | 02/26/07 | 01/27/07 | (G) Substituted trihalomethylpyridinethiolate
P-06-0597 | 02/23/07 | 02/07/07 | (G) Neutralized salt of functionalized acrylate polymer
P-06-0632 | 03/05/07 | 02/14/07 | (S) Phospholipase c
P-06-0680 | 02/23/07 | 02/13/07 | (G) Polyurethane polymer
P-06-0685 | 03/16/07 | 02/14/07 | (S) Fatty acids, C18-unsaturated, dimers, hydrogenated, polymers with ethylenediamine, hexamethylenediamine and tetradecanedioic acid
P-06-0701 | 03/16/07 | 02/15/07 | (G) Lithium salt of ethylene acrylic acid copolymer
P-06-0703 | 03/14/07 | 02/19/07 | (G) Amine containing polyalkylene oxides
P-06-0705 | 02/23/07 | 02/19/07 | (G) Polyamine modified polyamide
P-06-0727 | 02/22/07 | 02/08/07 | (G) Substituted benzenemethanaminium chloride/acrylamide/acrylic acid polymer
P-06-0743 | 03/15/07 | 02/23/07 | (G) Alkylamino hafnium salt
P-06-0779 | 02/12/07 | 02/01/07 | (G) Substituted cyanoguanidine polymer
P-06-0780 | 02/12/07 | 02/01/07 | (G) Substituted polyamine
P-06-0787 | 02/14/07 | 01/25/07 | (G) Modified tall-oil
P-06-0788 | 02/14/07 | 02/08/07 | (G) Modified tall-oil fatty acids
P-06-0790 | 02/21/07 | 01/28/07 | (G) Siloxanes and silicones, di-alkyl, alkyl 2-[(1-oxo-2-propenyl)oxy]alkoxy
P-06-0795 | 02/12/07 | 01/28/07 | (G) Isocetyl palmitate
P-06-0808 | 02/15/07 | 01/30/07 | (G) Polyamide resin
P-06-0839 | 03/01/07 | 02/07/07 | (G) Phenoxyphosphazene oligomer
P-07-0012 | 02/20/07 | 01/16/07 | (G) Ethanol capped polyether polyurethane
P-07-0057 | 02/21/07 | 02/08/07 | (G) Alkyl substituted tetrahydro pyran
P-07-0066 | 03/21/07 | 03/09/07 | (G) Trimellitic anhydride, polymer with alkanediol, dihydroxyalkane diglycidyl ether di-3,5,5-trimethylhexanoate homopolymer, ethoxylated bis(hydroxysubstituted) alkane and heteromonocycledione, compound with 2-(dimethylamino) ethanol
P-07-0076 | 03/20/07 | 03/09/07 | (G) Benzene, 1,1′-[1,2-ethanediylbis(oxy)]bis[polymethyl-
P-07-0085 | 03/13/07 | 03/07/07 | (G) Acrylated aliphatic polyurethane
P-07-0086 | 03/14/07 | 03/08/07 | (G) Water dispersible polyurethane
P-07-0091 | 02/26/07 | 02/21/07 | (G) Acrylate copolymer

List of Subjects

Environmental protection, Chemicals, Premanufacturer notices.

Dated: April 30, 2007.
Geraldine Hilton,
Acting Director, Information Management Division, Office of Pollution Prevention and Toxics.

[FR Doc. E7-8785 Filed 5-8-07; 8:45 am]

BILLING CODE 6560-50-S